DEPARTMENT OF HEALTH AND HUMAN SERVICES

National Institutes of Health

National Institute of Neurological Disorders and Stroke; Amended Notice of Meeting

Notice is hereby given of a change in the meeting of the NST-2 Study Section, April 3, 2025, 09:30 a.m. to April 4, 2025, 06:00 p.m., National Institutes of Health, Neuroscience Center, 6001 Executive Boulevard, Rockville, MD 20852 which was published in the Federal Register on March 17, 2025, FR Doc. 2025-04217, 90 FR 12332.

This notice is being amended to change the dates of this two-day meeting to April 21, 2025, and April 22, 2025. The meeting time remains the same. The meeting is closed to the public.

Dated: March 19, 2025.
David W. Freeman,
Supervisory Program Analyst, Office of Federal Advisory Committee Policy.

[FR Doc. 2025-04956 Filed 3-21-25; 8:45 am]

BILLING CODE 4140-01-P